DEPARTMENT OF DEFENSE

48 CFR Part 247

Defense Federal Acquisition Regulation Supplement; Transportation Acquisition Policy

CFR Correction

In Title 48 of the Code of Federal Regulations, Chapter 2 (Parts 201 to 299), revised as of October 1, 2008, on page 307, in section 247.105, paragraph (b)(iii)(E) is reinstated to read as follows:

247.105 Transportation assistance.

(b) * * *

(iii) * * *

(E) When requesting rates and related costs for the evaluation of bids or proposals, include the bid opening or proposal due date and the expected date of initial shipment, if established.

[FR Doc. E9-22902 Filed 9-21-09; 8:45 am]

BILLING CODE 1505-01-D